ENVIRONMENTAL PROTECTION AGENCY

40 CFR Part 60

[A-91-07; FRL-8176-8]

RIN 2060-AG22

Amendments to Standards of Performance for New Stationary Sources; Monitoring Requirements

AGENCY: Environmental Protection Agency (EPA).

ACTION: Final rule; correction.

SUMMARY: The EPA issued a final rule on August 10, 2000, that revised the monitoring requirements in Performance Specification 1 (PS-1). The revisions updated requirements for source owners and operators who must install and use continuous stack or duct opacity monitoring equipment. The revisions also updated design and performance validation requirements for continuous opacity monitoring system (COMS) equipment in PS-1. In addition to changes to PS-1, the final rule established differences between gaseous continuous emissions monitoring systems (CEMS) and COMS. The final rule contained a minor error in wording. This action is intended to correct this error. All other preamble and regulatory text printed in the August 10, 2000, final rule is correct.

DATES: This correction is effective June 1, 2006.

FOR FURTHER INFORMATION CONTACT: Rima Howell, Measurement Technology Group, Air Quality Assessment Division (E-143-02), Office of Air Quality Planning and Standards, EPA, Research Triangle Park, NC 27711; telephone number (919) 541-0443; fax number (919) 541-0516; electronic mail (e-mail) address howell.rima@epa.gov.

SUPPLEMENTARY INFORMATION:

I. Background

The EPA promulgated revisions to the Specifications and Test Procedures for Opacity Continuous Emission Monitoring Systems in Stationary Sources, PS-1 (40 CFR part 60, Appendix B) and revised § 60.13(d)(1) in the Federal Register (65 FR 48914) on August 10, 2000. Following the promulgation of these sections, Phelps Dodge Miami, Inc., requested that we issue a correction to § 60.13(d)(1). Their request pointed out that the Agency had inadvertently modified a requirement for CEMS, thus adding a requirement to obtain calibration data automatically. The Agency agrees that the automatic data gathering requirement was only intended to address COMS systems, not CEMS, and has agreed to address this issue.

II. Summary of Amendment

The EPA issued a final rule on August 10, 2000, (65 FR 48914) that revised the monitoring requirements in Performance Specification 1 (PS-1) of Appendix B of part 60. The revisions updated requirements for source owners and operators who must install and use continuous stack or duct opacity monitoring equipment. The revisions also updated design and performance validation requirements for COMS equipment in PS-1. In addition to changes to PS-1, the final rule revised § 60.13(d)(1) to distinguish between CEMS and COMS. The final rule contained a minor error in the revised § 60.13(d)(1). This action is intended to correct this error.

The incorrect wording is found in the first sentence of § 60.13(d)(1), which erroneously requires that owners and operators of CEMS must “automatically” check the zero and span calibration drifts at least once daily in accordance with a written procedure. The word “automatically” was not intended to be a requirement for CEMS, while it is a requirement for COMS. The word “automatically” was used in reference to CEMS by mistake, and is being removed.

III. Statutory and Executive Order Reviews

Under Executive Order 12866, Regulatory Planning and Review (58 FR 51735, October 4, 1993), this action is not a “significant regulatory action” and is, therefore, not subject to review by the Office of Management and Budget (“OMB”). This action is not a “major rule” as defined by 5 U.S.C. 804(2). The correction does not impose an information collection burden under the provisions of the Paperwork Reduction Act of 1995 [44 U.S.C. 3501 et seq.].

Because EPA has made a “good cause” finding that this action is not subject to notice and comment requirements under the APA or any other statute, it is not subject to the regulatory flexibility provisions of the Regulatory Flexibility Act [5 U.S.C. 601 et seq.], or to sections 202 and 205 of the Unfunded Mandates Reform Act of 1995 [Pub. L. 104-4]. In addition, this action does not significantly or uniquely affect small governments or impose a significant intergovernmental mandate, as described in sections 203 and 204 of the UMRA.

The correction does not have substantial direct effects on the States, or on the relationship between the national Government and the States, or on the distribution of power and responsibilities among the various levels of Government, as specified in Executive Order 13132, Federalism (64 FR 43255, August 10, 1999).

Today's action also does not significantly or uniquely affect the communities of tribal governments, as specified by Executive Order 13175, Consultation and Coordination with Indian Tribal Governments (65 FR 67249, November 9, 2000). The technical correction also is not subject to Executive Order 13045, Protection of Children from Environmental Health and Safety Risks (62 FR 19885, April 23, 1997) because it is not economically significant.

The correction is not subject to Executive Order 13211, Actions Concerning Regulations That Significantly Affect Energy Supply, Distribution, or Use (66 FR 28355, May 22, 2001) because it is not a significant regulatory action under Executive Order 12866.

Section 553 of the Administrative Procedure Act (APA), 5 U.S.C. 553(b)(B), provides that, when an Agency for good cause finds that notice and public procedure are impracticable, unnecessary, or contrary to the public interest, the Agency may issue a rule without providing notice and an opportunity for public comment. We have determined that there is good cause for making today's action final without prior proposal and opportunity for comment because the change to the rule corrects an error, is noncontroversial, and is consistent with the technical basis of the rule. Thus, notice and public procedure are unnecessary. We find that this constitutes good cause under 5 U.S.C. 553(b)(B) (see also the final sentence of section 307(d)(1) of the Clean Air Act (CAA), 42 U.S.C. 7607(d)(1), indicating that the good cause provisions of the APA continue to apply to rulemaking under section 307(d) of the CAA).

Section 553(d)(3) allows an agency, upon a finding of good cause, to make a rule effective immediately. Because today's changes relieve an unintended requirement, we find good cause to make these technical corrections effective immediately.

The correction action does not involve changes to the technical standards related to test methods or monitoring methods; thus, the requirements of section 12(d) of the National Technology Transfer and Advancement Act of 1995 (15 U.S.C. 272) do not apply.

The correction also does not involve special consideration of environmental justice-related issues as required by Executive Order 12898, Federal Actions to Address Environmental Justice in Minority Populations and Low-Income Populations (59 FR 7629, February 16, 1994).

The Congressional Review Act, 5 U.S.C. 801 et seq., as added by SBREFA of 1996, generally provides that before a rule may take effect, the agency promulgating the rule must submit a rule report, which includes a copy of the rule, to each House of the Congress and to the Comptroller General of the U.S. The EPA will submit a report containing this final action and other required information to the U.S. Senate, the U.S. House of Representatives, and the Comptroller General of the U.S. prior to publication of today's action in the Federal Register. Today's action is not a “major rule” as defined by 5 U.S.C. 804(2). The final rule will be effective on June 1, 2006.

List of Subjects in 40 CFR Part 60

Environmental protection, Air pollution control, Carbon monoxide, Reporting and recordkeeping requirements.

Dated: May 23, 2006.
William L. Wehrum,
Acting Assistant Administrator, Office of Air and Radiation.

For the reasons stated in the preamble, title 40, Chapter I of the Code of Federal Regulations is amended as follows:

PART 60—STANDARDS OF PERFORMANCE FOR NEW STATIONARY SOURCES

1. The authority citation for part 60 continues to read as follows:

Authority: 42 U.S.C. 7401 et seq.

Subpart A—General Provisions

2. Amend § 60.13 by revising the first sentence of paragraph (d)(1) as follows:

§ 60.13 Monitoring requirements.

* * * * *

(d)(1) Owners and operators of a CEMS installed in accordance with the provisions of this part, must check the zero (or low level value between 0 and 20 percent of span value) and span (50 to 100 percent of span value) calibration drifts at least once daily in accordance with a written procedure. * * *

* * * * *

[FR Doc. E6-8397 Filed 5-31-06; 8:45 am]

BILLING CODE 6560-50-P